DEPARTMENT OF STATE

22 CFR Part 42

[Public Notice: 8755]

RIN 1400-AD52

Visas: Documentation of Immigrants Under the Immigration and Nationality Act, as Amended

AGENCY: Department of State.

ACTION: Final rule.

SUMMARY: Pursuant to the Violence Against Women and Department of Justice Reauthorization Act of 2005, the Department of State amends the immigrant visa classification table listed in the Department's regulations to add a symbol for an immigrant visa issued to to an alien who: is the parent of a current U.S.citizen, or the parent of a former U.S. citizen who, within the two-year period prior to filing the petition, lost or renounced U.S. citizenship status related to an incident of domestic violence or died; is a person of good moral character; is eligible to be classified as an immediate relative under the Immigration and Nationality Act; resides, or has resided, with the U.S. citizen daughter or son; demonstrates that he or she has been battered or subject to extreme cruelty by the U.S. citizen daughter or son; and has an approved petition from the Department of Homeland Security.

DATES: This rule becomes effective June 5, 2014.

FOR FURTHER INFORMATION CONTACT: Taylor W. Beaumont, Department of State, Bureau of Consular Affairs, Office of Visa Services, Legal Affairs, Division of Legislation and Regulations, 600 19th Street NW., Washington, DC 20431, email (BeaumontTW@state.gov).

SUPPLEMENTARY INFORMATION: Section 816 of the Violence Against Women and Department of Justice Reauthorization Act of 2005, Title VIII of Public Law 109-162, codified at 8 U.S.C. 1154(a)(1)(A)(vii), created an immigrant visa classification for the parents of U.S. citizens, and the parents of former U.S. citizens who, within the past two years, have lost or renounced U.S. citizenship status related to an incident of domestic violence or died.

The Department currently identifies applicants for this status using the “IB5” symbol, an existing symbol used for parents of U.S. citizens who are at least 21 years old. The unique IB5 classification symbol will facilitate the Department's ability to identify applicants for such status in various immigrant visa information databases.

Regulatory Findings

A. Administrative Procedure Act

Since this rule concerns the administration of visas, which is a foreign affairs function of the United States, the Department publishes this rule as a final rule pursuant to 5 U.S.C. 553(a)(1). In addition, since this rule implements the provisions of the Violence Against Women and Department of Justice Reauthorization Act of 2005, the Department finds that notice and public comment on this rule are unnecessary, pursuant to 5 U.S.C. 553(b)(B). Accordingly, this rule is effective immediately.

B. Regulatory Flexibility Act/Executive Order 13272: Small Business

Because this rule is exempt from notice and comment rulemaking under 5 U.S.C. 553, it is exempt from the regulatory flexibility analysis requirements set forth at sections 603 and 604 of the Regulatory Flexibility Act (5 U.S.C. 603 and 604). Nonetheless, consistent with section 605(b) of the Regulatory Flexibility Act (5 U.S.C. 605(b)), the Department has reviewed this regulation and certifies that this rule will not have a significant economic impact on a substantial number of small entities.

C. The Unfunded Mandates Reform Act of 1995

Section 202 of the Unfunded Mandates Reform Act of 1995, Public Law 104-4, 109 Stat. 48, 2 U.S.C. 1532, generally requires agencies to prepare a statement before proposing any rule that may result in an annual expenditure of $100 million or more by State, local, or tribal governments, or by the private sector. This rule will not result in any such expenditure, nor will it significantly or uniquely affect small governments.

D. The Small Business Regulatory Enforcement Fairness Act of 1996

This rule is not a major rule as defined by 5 U.S.C. 804, for purposes of congressional review of agency rulemaking under the Small Business Regulatory Enforcement Fairness Act of 1996, Public Law 104-121. This rule would not result in an annual effect on the economy of $100 million or more; a major increase in costs or prices; or significant adverse effects on competition, employment, investment, productivity, innovation, or on the ability of United States-based companies to compete with foreign-based companies in domestic and export markets.

E. Executive Order 12866

The Department does not consider this rule to be a “significant regulatory action” within the scope of section 3(f) of Executive Order 12866. Nonetheless, the Department has reviewed the rule to ensure its consistency with the regulatory philosophy and principles set forth in the Executive Order.

F. Executive Order 13563

The Department of State has considered this rule in light of Executive Order 13563 and affirms that this regulation is consistent with the guidance therein.

G. Executive Orders 12372 and 13132: Federalism

This regulation will not have substantial direct effects on the states, on the relationship between the national government and the states, or the distribution of power and responsibilities among the various levels of government. Nor will the rule have federalism implications warranting the application of Executive Orders 12372 and 13132.

H. Executive Order 12988: Civil Justice Reform

The Department has reviewed the regulations in light of sections 3(a) and 3(b)(2) of Executive Order 12988 to eliminate ambiguity, minimize litigation, establish clear legal standards, and reduce burden.

I. Executive Order 13175

The Department of State has determined that this rulemaking will not have tribal implications, will not impose substantial direct compliance costs on Indian tribal governments, and will not pre-empt tribal law. Accordingly, the requirements of Executive Order 13175 do not apply to this rulemaking.

J. Paperwork Reduction Act

This rule does not impose information collection requirements under the provisions of the Paperwork Reduction Act, 44 U.S.C., Chapter 35.

List of Subjects in 22 CFR Part 42

Aliens, Foreign officials, Immigration, Passports and visas.

22 CFR Part 42 is amended as follows:

PART 42—VISAS: DOCUMENTATION OF IMMIGRANTS UNDER THE IMMIGRATION AND NATIONALITY ACT, AS AMENDED

1. The authority citation for part 42 is amended to read as follows:

Authority: 8 U.S.C. 1104 and 1182; Pub. L. 105-277; Pub. L. 108-449; 112 Stat. 2681-795 through 2681-801; The Convention on Protection of Children and Co-operation in Respect of Intercountry Adoption (done at the Hague, May 29, 1993), S. Treaty Doc. 105-51 (1998), 1870 U.N.T.S. 167 (Reg. No. 31922 (1993)); 42 U.S.C. 14901-14954, Pub. L. 106-279; Pub. L. 111-287; 8 U.S.C. 1101, 124 Stat. 3058; 8 U.S.C. 1154, Pub. Law 109-162.

2. Section 42.11 is amended by adding an entry for “IB5” after “IB3” under “Immediate Relatives” in the “Immigrants” table to read as follows:

§ 42.11 Classification symbols.

* * * * *

Immigrants
Symbol | Class | Section of law
Immediate Relatives
* * * * * * *
IB5 | Self-petition Parent of U.S. Citizen | 204(a)(1)(A)(vii)
* * * * * * *

Dated: May 12, 2014.
Michele T. Bond,
Acting Assistant Secretary for Consular Affairs, Department of State.

[FR Doc. 2014-13091 Filed 6-4-14; 8:45 am]

BILLING CODE 4710-06-P